SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Blood Donor Locator Service—0960-0501

Regulation 20 CFR 401.200 requires that participating State agencies provide the Social Security Administration (SSA) Blood Donor Locator Service (BDLS) specific information on blood donors who have tested positive for Human Immunodeficiency Virus (HIV). SSA uses the information to identify the donor, and locate the donor's address in SSA records for the purpose of notifying the states and to assure that states meet regulatory requirements to qualify for using the BDLS. SSA will retain no record of the request or the information after processing has been completed. The respondents are participating State agencies acting on behalf of authorized blood donor facilities.

Number of Respondents: 10.

Frequency of Response: 5.

Average Burden Per Response: 15 minutes.

Estimated Annual Burden: 12.5 hours.

2. Affective Disorder Treatment Demonstration Project—0960-NEW

Background

There is substantial research evidence that affective disorders (i.e., mental disorders that affect a person's mood, such as depression and bipolar disorder) usually respond to treatment; there is also evidence that many individuals with affective disorders do not receive effective treatment. The cost of care is one of the reasons for the low treatment rates of individuals with affective disorder. This may be true for many beneficiaries, particularly those in the Medicare waiting period. Therefore, SSA will test the hypothesis that providing access to treatment will result in improved health status of Disability Insurance (DI) beneficiaries with affective disorders, which might, in turn, lead to increased labor force participation and self-sufficiency. This outcome would benefit both participants and taxpayers.

The Demonstration Project

SSA plans to implement a 5-year demonstration project that will test the effectiveness of providing better access to quality affective disorder treatments for DI beneficiaries who have an affective disorder as their primary reason for disability. Several forms and survey instruments will be used during the demonstration to collect information for screening program participants, beneficiary protection, and program evaluation. Some of the data will be collected from beneficiaries, and other data will be collected from the medical service providers who treat beneficiaries during the study.

The respondents to this collection will be randomly selected DI beneficiaries with an affective disorder and their health care providers.

| Annual number of respondents | Frequency of response | Average burden per response | Estimated annual burden
Beneficiary
Beneficiary Telephone Screening | 1,146 | 1 | 25 | 478
Authorization for Release of Medical Information | 894 | 1 | 5 | 75
Baseline Survey | 430 | 1 | 40 | 287
8-Month Follow-up Survey | 410 | 1 | 30 | 205
16-Month Follow-up Survey | 392 | 1 | 30 | 196
24-Month Follow-up Survey | 374 | 1 | 30 | 187
32-Month Follow-up Survey | 357 | 1 | 40 | 238
Health Provider
Copy Medical Records | 715 | 1 | 20 | 238
Medical Records Questionnaire | 715 | 1 | 10 | 119
Treatment Participation Screen | 215 | 1 | 15 | 54
Provider Credentialing Questionnaire | 215 | 1 | 15 | 54
Initial Treatment Plan | 161 | 1 | 30 | 81
Quarterly Progress Report | 161 | 8 | 30 | 645
Total | 6,185 |  |  | 2,857

3. Reporting Changes That Affect Your Social Security Payment—0960-NEW

SSA plans to offer Social Security beneficiaries a new Internet service for conducting business with the Agency. The Internet based form SSA-1425 will enable individuals to report events that may affect their Social Security Benefits. The information collected by SSA will be used to determine continuing entitlement to Social Security benefits and to determine the proper benefit amount. Currently, beneficiaries report these changes by phoning, visiting a Social Security office or completing the paper form SSA-1425. The respondents are Social Security beneficiaries who need to report a change to SSA.

Number of Respondents: 7,000.

Frequency of Response: 1.

Average Burden Per Response: 5 minutes.

Estimated Annual Burden: 583 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Representative Payee Report—Special Veterans Benefits—0960-0621

The information collected on form SSA-2001 is used to determine whether payments certified to the representative payee have been used properly and whether the representative payee continues to demonstrate strong concern for the beneficiary's best interests. The form will be completed annually by all representative payees receiving special veterans benefits (SVB) payments on behalf of beneficiaries outside the United States. It will also be required at anytime SSA has reason to believe that the representative payee could be misusing the payments. Respondents are representative payees of veterans receiving SVB Payments under title VIII.

Number of Respondents: 200.

Frequency of Response: 1.

Average Burden Per Response: 10 minutes.

Estimated Annual Burden: 33 hours.

Background Information

In November 1999, Congress passed the Foster Care Independence Act, and on December 14, 1999, the President signed it into law (Pub. L. 106-169). An important part of this legislation, section 251, creates a new title VIII of the Social Security Act. Title VIII provides for a program of special benefits for certain World War II veterans.

As a part of the title VIII administration, Section 807(a) of PL 106-169, also provides that, if the Social Security Administration determines that it is not in the best interest of the beneficiary to receive benefits directly, payments may be certified to a relative, another person or an organization interested in or concerned about the welfare of the beneficiary. These individuals or organizations are called representative payees.

2. Annual Earning Test—Direct Mail Follow-Up Program Notices—0960-0369

In 1997, as part of the initiative to reinvent government, SSA began to use the information reported on W-2's and self-employment tax returns to adjust benefits under the earnings test rather than have beneficiaries make a separate report, which often showed the same information. As a result, Beneficiaries under full retirement age (FRA) complete forms SSA-L9778-SM-SUP, SSA-L9779-SM-SUP and SSA-L9781-SM under this information collection.

With the passage of the “Senior Citizen Freedom to Work Act of 2000,” the annual earnings test (AET) at FRA was eliminated. As a result SSA designed 2 new Midyear Mailer Forms, SSA-L9784-SM and SSA-L9785-SM, to request an earnings estimate (in the year of FRA) for the period prior to the month of FRA. Social Security benefits maybe adjusted based on the information provided and this information is needed to comply with the law. Consequently, the Midyear Mailer program has become an even more important tool in helping SSA to ensure that Social Security payments are correct. Respondents are beneficiaries who must update their current year estimate of earnings, give SSA an estimate of earnings for the following year and an earnings estimate (in the year of FRA) for the period prior to the month of FRA.

Number of Respondents: 225,000.

Frequency of Response: 1.

Average Burden Per Response: 10 minutes.

Estimated Annual Burden: 37,500 hours.

3. Student Statement Regarding School Attendance—0960-0105

The information collected on Form SSA-1372 is needed to determine whether children of an insured worker are eligible for benefits as a student. The respondents are student claimants for Social Security benefits and their respective schools.

Number of Respondents: 200,000.

Number of Response: 1.

Average Burden Per Response: 10 minutes.

Estimated Annual Burden: 33,333 hours.

(SSA Address)

Social Security Administration, DCFAM, Attn: Frederick W. Brickenkamp, 1-A-21 Operations Bldg., 6401 Security Blvd., Baltimore, MD 21235

(OMB Address)

Office of Management and Budget, OIRA, Attn: Desk Officer for SSA, New Executive Office Building, Room 10230, 725 17th St., NW., Washington, DC 20503

Dated: October 13, 2000.
Liz Davidson,
Acting Reports Clearance Officer, Social Security Administration.

[FR Doc. 00-26889 Filed 10-20-00; 8:45 am]

BILLING CODE 4190-29-P